DEPARTMENT OF TRANSPORTATION

Maritime Administration

[Docket Number: MARAD-2000-7550]

Requested Administrative Waiver of the Coastwise Trade Laws

AGENCY: Maritime Administration, Department of Transportation.

ACTION: Invitation for public comments on a requested administrative waiver of the Coastwise Trade Laws for the vessel REEF DIVER.

SUMMARY: As authorized by Public Law 105-383, the Secretary of Transportation, as represented by the Maritime Administration (MARAD), is authorized to grant waivers of the U.S.-build requirement of the coastwise laws under certain circumstances. A request for such a waiver has been received by MARAD. The vessel, and a description of the proposed service, is listed below. Interested parties may comment on the effect this action may have on U.S. vessel builders or businesses in the U.S. that use U.S.-flag vessels. If MARAD determines that in accordance with Pub. L. 105-383 and MARAD's regulations at 46 CFR Part 388 (65 FR 6905; February 11, 2000) that the issuance of the waiver will have an unduly adverse effect on a U.S.-vessel builder or a business that uses U.S.-flag vessels, a waiver will not be granted.

DATES: Submit comments on or before July 26, 2000.

ADDRESSES: Comments should refer to docket number MARAD-2000-7550. Written comments may be submitted by hand or by mail to the Docket Clerk, U.S. DOT Dockets, Room PL-401, Department of Transportation, 400 7th St., S.W., Washington, D.C. 20590-0001. You may also send comments electronically via the Internet at http://dmses.dot.gov/submit/. All comments will become part of this docket and will be available for inspection and copying at the above address between 10 a.m. and 5 p.m., E.T., Monday through Friday, except federal holidays. An electronic version of this document and all documents entered into this docket is available on the World Wide Web at http://dms.dot.gov.

FOR FURTHER INFORMATION CONTACT: Michael Hokana, U.S. Department of Transportation, Maritime Administration, MAR-832 Room 7201, 400 Seventh Street, S.W., Washington, DC 20590. Telephone 202-366-0760.

SUPPLEMENTARY INFORMATION: Title V of P.L. 105-383 provides authority to the Secretary of Transportation to administratively waive the U.S.-build requirements of the Jones Act, and other statutes, for small commercial passenger vessels (less than 12 passengers). This authority has been delegated to the Maritime Administration per 49 CFR 1.66, Delegations to the Maritime Administrator, as amended. By this notice, MARAD is publishing information on a vessel for which a request for a U.S.-build waiver has been received, and for which MARAD requests comments from interested parties. Comments should refer to the docket number of this notice and the vessel name in order for MARAD to properly consider the comments. Comments should also state the commenter's interest in the waiver application, and address the waiver criteria given in § 388.4 of MARAD'S regulations at 46 CFR Part 388.

Vessel Proposed for Waiver of the U.S.-build Requirement

(1) Name of vessel and owner for which waiver is requested: Name of vessel: REEF DIVER. Owner: Richard R. Reth.

(2) Size, capacity and tonnage of vessel: According to the Applicant: The vessel is 38 feet long, 12 feet wide and depth of 5 feet. The gross tonnage is 21.9 tons or 17.5 net tons.

(3) Intended use for vessel, including geographic region of intended operation and trade: According to the applicant: The use of the vessel is for 6 passenger recreational dive chartering on the Western shore of Lake Michigan. The intended region of operation is from Port Washington, WI, North to Kenosha, WI, South.

(4) Date and place of construction and (if applicable) rebuilding: Date of construction: unknown. Place of original construction: construction was believed to have taken place in Winona, MN, USA. However, due to the absence of sufficient builder certification necessary to meet U.S. documentation standards to qualify for a coastwise endorsement, for the purposes of waivers permitted under Pub. L. 105-383 the vessel is considered to not have been built in the United States.

(5) A statement on the impact this waiver will have on other commercial passenger vessel operators. According to the applicant: The impact of this waiver on the commercial vessel operators is probably of no significance. The vessel is the only dive charter between Milwaukee, WI and Kenosha, WI. Further, according to the applicant, the three major and oldest dive charter operators out of the Milwaukee area encourage this new venture and have said the more the better. The applicant also claims a beneficial working relationship with other existing operators. For example, the owner claims operators exchange passengers when needed and help each other to find wrecks. Lastly the applicant states that the operation of all dive charters in the area is to: charter passengers out to dive sites, and provide a safe and enjoyable means to see the historic ships of the past, that had the unexpected fate of sinking, mostly due to weather.

(6) A statement on the impact this waiver will have on U.S. shipyards. According to the applicant: The release of the U.S. build requirements should have no adverse effect on the U.S. shipyards, because as of this letter, all vessels being used today in this area are refitted existing vessels for this activity. Therefore the shipbuilders should not be effected.

Dated: June 20, 2000.
By Order of the Maritime Administrator.
Joel C. Richard,
Secretary, Maritime Administration.

[FR Doc. 00-16021 Filed 6-23-00; 8:45 am]

BILLING CODE 4910-81-P